NUCLEAR REGULATORY COMMISSION

[Docket No. 72-08; NRC-2011-0085]

License Renewal for Calvert Cliffs Nuclear Power Plant, LLC's

AGENCY: Nuclear Regulatory Commission.

ACTION: Environmental assessment and finding of no significant impact; issuance.

SUMMARY: The U.S. Nuclear Regulatory Commission (NRC or the Commission) is considering the renewal of NRC License SNM-2505 for the continued operation of the Independent Spent Fuel Storage Installation (ISFSI) at the Calvert Cliffs Nuclear Power Plant site near Lusby, Maryland. The NRC has prepared an Environmental Assessment (EA) of this proposed license renewal in accordance with its regulations. Based on the EA, the NRC has concluded that a Finding of No Significant Impact (FONSI) is appropriate. The NRC also is conducting a safety evaluation of the proposed license renewal.

ADDRESSES: Please refer to Docket ID NRC-2011-0085 when contacting the NRC about the availability of information regarding this document. You may access information related to this document, which the NRC possesses and are publicly-available, using the following methods:

• Federal Rulemaking Web site: Go to http://www.regulations.gov and search for Docket ID NRC-2011-0085. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James R. Park, Project Manager, Office of Federal and State Materials and Environmental Management Programs, U.S. Nuclear Regulatory Commission, Washington, DC 20555-0001; telephone: 301-415-6935; email: James.Park@nrc.gov.

SUPPLEMENTARY INFORMATION:

I. Environmental Assessment Summary

By letter dated September 17, 2010, Calvert Cliffs Nuclear Power Plant, LLC (CCNPP) submitted an application to the NRC to renew NRC License SNM-2505 for the CCNPP site-specific Independent Spent Fuel Storage Installation (ISFSI) that expires on November 30, 2012. CCNPP is requesting renewal of NRC License SNM-2505 for a 40-year period to authorize CCNPP to continue ISFSI operations at the Calvert Cliffs site near Lusby, Maryland. CCNPP supplemented its application on February 10, 2011. On March 11, 2011, the NRC staff found CCNPP's application to be acceptable for a detailed review. In response to NRC staff requests for additional information, CCNPP provided supplemental information on June 14, June 28, and December 15, 2011.

The NRC staff has prepared an EA to document its environmental review of the proposed license renewal. The NRC staff considered the following environmental resource areas in its evaluation: land use; transportation; socioeconomics; air quality; water quality and use; geology and soils; ecology; noise; historical and cultural; scenic and visual; public and occupational health and safety; and waste management. Based on the NRC staff's evaluation, the potential environmental impacts on these resource areas were determined to be small. In its license renewal request, CCNPP is proposing no changes in how it handles or stores spent fuel at the ISFSI, and no significant changes in CCNPP's authorized operations for the ISFSI are planned during the proposed license renewal period. Approval of the proposed action is not expected to result in any new construction or expansion of the existing ISFSI footprint beyond that previously approved by the NRC. The ISFSI is a passive facility that produces no liquid or gaseous effluents and requires no power or regular maintenance. No significant radiological or non-radiological impacts are expected from continued normal operations. Occupational dose estimates from routine monitoring activities and transfer of spent fuel for disposal are expected to be maintained as low as is reasonably achievable and are expected to be within the limits of Title 10 of the Code of Federal Regulations (10 CFR) 20.1201. The estimated annual dose to the nearest potential member of the public from ISFSI activities is less than 0.02 mSv/yr (2 mrem/yr), which is significantly less than limits specified in 10 CFR 72.104 and 10 CFR 20.1301(a). The staff concluded that the proposed 40-year renewal of NRC License SNM-2505 will not result in a significant impact to the environment.

The NRC staff consulted with other federal and state agencies and Native American Indian tribes regarding the proposed action, including: The U.S. Fish and Wildlife Service, the National Oceanic and Atmospheric Administration (National Marine Fisheries Service), the Maryland Department of Natural Resources, the Maryland Department of the Environment, the Maryland Historic Trust, the Piscataway Indian Nation, the Piscataway Conoy Confederacy and Subtribes, the Cedarville Band of Piscataway Indians, and the Maryland Commission on African American History and Culture. These consultations ensured that the requirements of Section 7 of the Endangered Species Act and Section 106 of the National Historic Preservation Act were met and provided the designated state liaison agency the opportunity to comment on the proposed action and the EA.

II. Finding of No Significant Impact

On the basis of the EA, the NRC has concluded that the proposed license renewal will not significantly affect the quality of the human environment. Therefore, preparation of an environmental impact statement is not warranted for the proposed action and a finding of no significant impact is appropriate.

III. Further Information

Documents related to this action, including the license renewal application and supporting documentation, are available online in the NRC Library at http://www.nrc.gov/reading-rm/adams.html. From this site, you can access the NRC's Agencywide Document Access and Management System (ADAMS), which provides text and image files of NRC's public documents. The ADAMS accession numbers for the documents related to this notice are provided in the following table:

Document | ADAMS Accession No.
CCNPP License Renewal Application | ML102650247
CCNPP License Renewal Application—Supplemental Information | ML110620120
NRC March 11, 2011 Letter to CCNPP—Acceptance of License Renewal Application for Detailed Review | ML110730101
NRC April 15, 2011 Letter to CCNPP—Request for Additional Information (RAI) | ML110900524
CCNPP June 14, 2011 Letter to NRC—Response to RAI | ML11167A014
NRC April 28, 2011 Letter to CCNPP—First RAI Request | ML111180260
CCNPP June 28, 2011 Letter to NRC—Response to First RAI Request | ML11180A270
NRC October 7, 2011 Letter to CCNPP—Second RAI Request | ML112840455
CCNPP December 15, 2011 Letter to NRC—Response to Second RAI Request | ML11364A024
NRC Consultation Letters:
NRC Letter to U.S. Fish and Wildlife Service | ML110560670
NRC Letter to National Oceanic and Atmospheric Administration (National Marine Fisheries Service) | ML110670385
NRC Letter to Maryland Historic Trust | ML110560720
NRC Letter to Maryland Department of Natural Resources | ML110560647
NRC Letter to Maryland Department of the Environment | ML110560787
NRC Letter to Piscataway Indian Nation | ML111250187
NRC Letter to Piscataway Conoy Confederacy and Subtribes | ML110670403
NRC Letter to Cedarville Band of Piscataway Indians | ML110560754
NRC Letter to Maryland Commission on African American History and Culture | ML110560771
NRC Draft EA transmittal letter to Maryland Department of Natural Resources | ML120530497
Maryland Department of Natural Resources response to EA review request | ML121180580
Final Environmental Assessment | ML121220084

If you do not have access to ADAMS or if there are problems in accessing the documents located in ADAMS, contact the NRC's Public Document Room (PDR) Reference staff at 1-800-397-4209, 301-415-4737 or by email to PDR.Resource@nrc.gov.

These documents may also be viewed electronically on the public computers located at the NRC's PDR, O 1 F21, One White Flint North, 11555 Rockville Pike, Rockville, MD 20852. Hard copies of the documents are available from the PDR for a fee.

Dated at Rockville, Maryland, this 31 day of May 2012.
For the Nuclear Regulatory Commission.
Andrew Persinko,
Deputy Director, Environmental Protection and Performance Assessment Directorate, Division of Waste Management and Environmental Protection, Office of Federal and State Materials and Environmental Management Programs.

[FR Doc. 2012-13926 Filed 6-7-12; 8:45 am]

BILLING CODE 7590-01-P